DEPARTMENT OF THE INTERIOR

National Park Service

Notice of Availability of Draft Director's Order Concerning National Park Service Policies and Procedures Governing Its Value Analysis Program

AGENCY: National Park Service, Department of the Interior.

ACTION: Notice of availability.

SUMMARY: The National Park Service (NPS) has prepared a Director's Order setting forth its policies and procedures governing use of Value Analysis. When adopted, the policies and procedures will apply to all units of the national park system and will supersede and replace the policies and procedures issued in July 1994.

DATES: Written comments will be accepted until September 19, 2000.

ADDRESSES: Draft Director's Order #90 is available on the Internet at http://www.nps.gov/refdesk/Dorders/index.htm. Requests for copies and written comments should be sent to Richard Turk, NPS Value Analysis Program Coordinator, Construction Program Management, P.O. Box 25287, 12795 W. Alameda Parkway, Denver, Colorado 80225-0287 or to his Internet address: rich_turk@nps.gov.

FOR FURTHER INFORMATION CONTACT: Rich Turk at (303) 969-2470.

SUPPLEMENTARY INFORMATION: The NPS is updating its current system of internal written instructions. When these documents contain new policy or procedural requirements that may affect parties outside the NPS, they are first made available for public review and comment before being adopted. The policies and procedures governing Value Analysis have previously been published in the form of guideline NPS 90. That guideline will be superseded by the new Director's Order 90 (and a reference manual that will be issued subsequent to the Director's Order). The draft Director's Order covers topics such as the value analysis program, thresholds for application of value analysis for construction and non-construction projects, value engineering change proposals (VECP), annual report, plan of action, coordination, and funding.

Individual respondents may request that we withhold their home address from the administrative record, which we will honor to the extent allowable by law. There also may be circumstances in which we would withhold from the record a respondent's identity, as allowable by law. If you wish us to withhold your name and/or address, you must state this prominently at the beginning of your comment.

Dated: August 24, 2000.
Michael LeBorgne,
Program Manager, Construction Program Management, Office of the Associate Director, Professional Services.

[FR Doc. 00-22126 Filed 8-29-00; 8:45 am]

BILLING CODE 4310-70-M